DEPARTMENT OF LABOR

Employee Benefits Security Administration

[Application Number D-11363]

Withdrawal of the Notice of Proposed Exemption Involving the Citation Box and Paper Co. Profit Sharing Plan and Retirement Trust (the Plan) Located in Chicago, IL

In the May 9, 2008 issue of the Federal Register, at 73 FR 26415, the Department of Labor (the Department) published a notice of proposed exemption from the prohibited transaction restrictions of the Employee Retirement Income Security Act of 1974 and from certain taxes imposed by the Internal Revenue Code of 1986. The notice of proposed exemption concerned the proposed sale of improved real property by the Plan to a partnership to be comprised of Anthony J. Kostiuk (the Applicant and Plan Fiduciary), Anthony L. Kostiuk, Edmund Chmiel, Andre Frydl, and David Marinier, each of whom is a party in interest with respect to the Plan.

By letter dated March 16, 2009, the Applicant requested that the application for exemption be withdrawn.

Accordingly, the notice of proposed exemption is hereby withdrawn.

Signed at Washington, DC, this 10th day of April, 2009.
Ivan L. Strasfeld,
Director, Office of Exemption Determinations, Employee Benefits Security Administration.

[FR Doc. E9-8675 Filed 4-15-09; 8:45 am]

BILLING CODE 4510-29-P